DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of nine individuals whose property and interests in property have been unblocked pursuant to Executive Order 12978 of October 21, 1995, “Blocking Assets and Prohibiting Transactions With Significant Narcotics Traffickers”.

DATES: The unblocking and removal from the list of Specially Designated Nationals and Blocked Persons (“SDN List”) of the nine individuals identified in this notice whose property and interests in property were blocked pursuant to Executive Order 12978 of October 21, 1995, is effective on March 28, 2013.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On March 28, 2013, the Director of OFAC removed from the SDN List the nine individuals listed below, whose property and interests in property were blocked pursuant to the Order:

1. AGUILAR BERNAL, Sonia, Calle 14C No. 29B-24, Cali, Colombia; c/o CRIADERO LA LUISA E.U., Cali, Colombia; c/o GESTORA MERCANTIL S.A., Cali, Colombia; c/o COMPANIA DE FOMENTO MERCANTIL S.A., Cali, Colombia; c/o CONSTRUCCIONES PROGRESO DEL PUERTO S.A., Puerto Tejada, Colombia; Cedula No. 31988264 (Colombia); Passport 31988264 (Colombia) (individual) [SDNT].

2. MOR SAAB, Soraya, c/o DURATEX S.A., Bogota, Colombia; c/o MOR GAVIRIA Y CIA. S.C.S., Bogota, Colombia; c/o PROYECTOS Y SOLUCIONES S.A., Bogota, Colombia; c/o CONSTRUCTORA IRAKA S.A., Bogota, Colombia; c/o ACUICOLA SANTA CATALINA S.A., Bogota, Colombia; c/o PROMOCIONES E INVERSIONES LAS PALMAS S.A., Bogota, Colombia; DOB 10 May 1959; POB Girardot, Cundinamarca, Colombia; Cedula No. 35461535 (Colombia) (individual) [SDNT].

3. RESTREPO VICTORIA, Norma Constanza, c/o AGROPECUARIA PALMA DEL RIO S.A., Ibague, Colombia; Carrera 22 No. 86A-60, Apt. 202, Bogota, Colombia; DOB 05 Jan 1968; POB Pital, Huila, Colombia; Cedula No. 55060642 (Colombia); Passport AG010495 (Colombia); alt. Passport AF535472 (Colombia) (individual) [SDNT].

4. GONZALEZ BOHORQUEZ, Guillermo, c/o UNIVISA S.A., Cali, Colombia; DOB 20 Dec 1944; POB Buga, Valle, Colombia; Cedula No. 6185654 (Colombia); Passport AJ772175 (Colombia) (individual) [SDNT].

5. CALDERON COLLAZOS, Gonzalo, c/o COMPANIA DE FOMENTO MERCANTIL S.A., Cali, Colombia; c/o BANANERA AGRICOLA S.A., Santa Marta, Colombia; c/o CONSTRUCCIONES PROGRESO DEL PUERTO S.A., Puerto Tejada, Colombia; c/o GEOPLASTICOS S.A., Cali, Colombia; DOB 29 Sep 1952; POB Cali, Valle, Colombia; Cedula No. 14989778 (Colombia); Passport 14989778 (Colombia) (individual) [SDNT].

6. SALAZAR ARCILA, Yolanda, c/o PLASTEC LTDA., Colombia; Carrera 6 No. 15-30, Quimbaya, Quindio, Colombia; Cedula No. 25018274 (Colombia) (individual) [SDNT].

7. GONZALEZ BETANCOURTH, Luz Adriana, c/o CORDES CIA. LIMITADA, Cali, Colombia; Armenia, Quindio, Colombia; DOB 29 Jul 1975; POB Sevilla, Valle del Cauca, Colombia; nationality Colombia; citizen Colombia; Cedula No. 29831840 (Colombia) (individual) [SDNT].

8. PRADO CUERO, Salomon (a.k.a. CHALO), c/o COLOR 89.5 FM STEREO, Cali, Colombia; Avenida 26 No. 42B-89, Bogota, Colombia; Carrera 101B No. 11B-50, Cali, Colombia; DOB 01 Aug 1948; Cedula No. 19069493 (Colombia); Passport AE801105 (Colombia) (individual) [SDNT].

9. GARCES VARGAS, Elmo, c/o INVERSIONES BETANIA LTDA., Cali, Colombia; c/o INVERSIONES EL PENON S.A., Cali, Colombia; c/o SOCOVALLE, Cali, Colombia; DOB 20 Jul 1953; Cedula No. 16581793 (Colombia) (individual) [SDNT].

Dated: March 28, 2013.
Barbara C. Hammerle,
Acting Director, Office of Foreign Assets Control.

[FR Doc. 2013-07856 Filed 4-3-13; 8:45 am]

BILLING CODE 4810-AL-P